DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2010, there were six applications approved. Additionally, eight approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: County and City of Spokane, Washington.

Application Number: 10-08-C-00-GEG.

Application Type: Impose and use a PFC. PFC LEVEL: $4.50.

Total PFC Revenue Approved in This Decision: $850,000.

Earliest Charge Effective Date: August 1, 2012.

Estimated Charge Expiration Date: October 1, 2012.

Class of Air Carriers Not Required To Collect PFC's: None.

Brief Description of Project Approved for Collection and Use: Master plan update.

Decision Date: June 4, 2010.

FOR FURTHER INFORMATION CONTACT: Trang Tran, Seattle Airports District Office, (425) 227-1662.

Public Agency: City of Presque Isle, Maine.

Application Number: 10-02-C-00-PQI.

Application Type: Impose and use a PFC.

PFC Level: $4.50.

Total PFC Revenue Approved in This Decision: $353,298.

Earliest Charge Effective Date: August 1, 2010.

Estimated Charge Expiration Date: January 1, 2018.

Class of Air Carriers Not Required To Collect PFC's: None.

Brief Description of Project Approved for Collection and Use:

Rehabilitate runway 1/19 and runway safety area, phase I.

Snow removal equipment.

Crack seal and repair.

Rehabilitate, mark, and sign taxiway A.

Rehabilitate runway 1/19 and runway, phase II.

Decision Date: June 9, 2010.

FOR FURTHER INFORMATION CONTACT: Priscilla Scott, New England Regional Airports Division, (781) 238-7614.

Public Agency: Charlottesville—Albemarle Airport Authority, Charlottesville, Virginia.

Application Number: 10-19-C-00-CHO.

Application Type: Impose and use a PFC.

PFC Level: $4.50.

Total PFC Revenue Approved in This Decision: $3,454,340.

Earliest Charge Effective Date: August 1,2010.

Estimated Charge Expiration Date: August 1, 2016.

Class of Air Carriers Not Required To Collect PFC's: All air taxi/commercial operators filing or requested to file FAA Form 1800-31.

Determination: Approved. Based on information submitted in the public agency's application, the FAA has determined that the proposed class accounts for less than 1 percent of the total annual enplanements at Charlottesville—Albemarle Airport.

Brief Description of Projects Approved for Collection and Use:

Relocate runway 3 localizer.

Pavement management program—rehabilitate taxiway F.

Runway 21 extension—runway protection zone land acquisition.

Runway 21 extension—phase 1A.

Runway 21 extension—phase 1B, excavate embankment.

Runway 21 extension—phase 1b, excavate embankment additional share.

Runway 21 extension—phase 2, pave construct runway only.

Pavement management program—mill/overlay taxiway sections.

Runway 21 extension—phase 3, construction parallel taxiway.

Runway 21 extension—phase 4a, runway safety area embankment.

Rehabilitate electrical vault.

Decision Date: June 9, 2010.

FOR FURTHER INFORMATION CONTACT: Jeffery Breeden, Washington Airports District Office, (703) 661-1363.

Public Agency: City of Albany, Georgia.

Application Number: 10-05-C-00-ABY.

Application Type: Impose and use a PFC.

PFC Level: $4.50.

Total PFC Revenue Approved in This Decision: $323,763.

Earliest Charge Effective Date: August 1,2010.

Estimated Charge Expiration Date: February 1, 2013.

Class of Air Carriers Not Required To Collect PFC's: Air taxi/commercial operators.

Determination: Approved. Based on information submitted in the public agency's application, the FAA has determined that the proposed class accounts for less than 1 percent of the total annual enplanements at Southwest Georgia Regional Airport.

Brief Description of Projects Approved for Collection and Use:

Terminal rehabilitation and expansion.

Airfield electrical improvements.

PFC application development.

Decision Date: June 14, 2010.

FOR FURTHER INFORMATION CONTACT: Anna Guss, Atlanta Airports District Office, (404) 305-7146.

Public Agency: City of Atlanta, Georgia.

Application Number: 10-12-C-00-Atl.

Application Type: Impose and use a PFC.

PFC Level: $4.50.

Total PFC Revenue Approved in This Decision: $19,332,000.

Earliest Charge Effective Date: January 1, 2023.

Estimated Charge Expiration Date: March 1, 2023.

Class of Air Carriers Not Required To Collect PFC's: Air taxi/commercial operators when enplaning revenue passengers in limited, irregular, special service air taxi/commercial operations such as air ambulance services, student instruction, and non-stop sightseeing flights that begin and end at the airport and are concluded within a 25-mile radius of the airport.

Determination: Approved. Based on information submitted in the public agency's application, the FAA has determined that the proposed class accounts for less than 1 percent of the total annual enplanements at Hartsfield-Jackson Atlanta International Airport.

Brief Description of Project Approved for Collection and Use: Concourse D gate additions.

Decision Date: June 15, 2010.

FOR FURTHER INFORMATION CONTACT: Anna Guss, Atlanta Airports District Office, (404) 305-7146.

Public Agency: County of Pitken, Aspen, Colorado.

Application Number: 10-07-C-00-ASE.

Application Type: Impose and use a PFC.

PFC Level: $4.50.

Total PFC Revenue Approved in This Decision: $1,640,955.

Earliest Charge Effective Date: August 1, 2010.

Estimated Charge Expiration Date: August 1, 2012.

Class of Air Carriers Not Required To Collect PFC's: Non-scheduled on demand carriers, air taxi/commercial operators filing FAA Form 1800-31.

Determination: Approved. Based on information submitted in the public agency's application, the FAA has determined that the proposed class accounts for less than 1 percent of the total annual enplanements at Aspen—Pitken County/Sardy Field.

Brief Description of Projects Approved for Collection and Use:

Snow removal equipment—runway sweeper.

Snow removal equipment—runway plow.

Airfield friction tester.

Snow removal equipment—airfield snow blower.

PFC application and administration fees.

Decision Date: June 18, 2010.

FOR FURTHER INFORMATION CONTACT: Chris Schaffer, Denver Airports District Office, (303) 342-1258.

Amendments to PFC Approvals
Amendment No. city, state | Amendment approved date | Original approved net PFC revenue | Amended approved net PFC revenue | Original estimated charge exp. date | Amended estimated charge exp. date
01-01-C-03-SAT San Antonio, TX | 05/28/10 | $238,029,391 | $364,227,049 | 01/01/13 | 05/01/19
03-02-U-03-SAT San Antonio, TX | 05/28/10 | NA | NA | 01/01/13 | 05/01/19
04-03-U-SAT San Antonio, TX. | 05/28/10 | NA | NA | 01/01/13 | 05/01/19
07-06-C-01-SUN Haily, ID | 06/02/10 | 691,368 | 763,226 | 11/01/10 | 12/01/10
04-07-C-03-JNU Juneau, AK | 06/03/10 | 5,226,106 | 3,566,606 | 09/01/08 | 03/01/08
07-07-C-01-ALO Waterloo, IA | 06/14/10 | 356,706 | 363,977 | 03/01/11 | 03/01/11
09-14-C-01-MRY Monterey, CA | 06/21/10 | 854,823 | 980,026 | 08/01/10 | 12/01/10
07-11-C-01-MCO Orlando, FL | 06/22/10 | 48,580,000 | 49,330,000 | 07/01/20 | 07/01/20

Issued in Washington, DC on July 14, 2010.
Joe Hebert,
Manager, Financial Analysis and Passenger Facility Charge Branch.

[FR Doc. 2010-17982 Filed 7-26-10; 8:45 am]

BILLING CODE 4910-13-M